DEPARTMENT OF THE INTERIOR

Fish and Wildlife Service

Availability of an Environmental Assessment and Receipt of an Application for an Incidental Take Permit for the Granite Homes, Inc. Development in Riverside County, CA

AGENCY: Fish and Wildlife Service, Interior.

ACTION: Notice of availability and receipt of application.

SUMMARY: Granite Homes, Incorporated (the Applicant) has applied to the Fish and Wildlife Service (Service) for an incidental take permit pursuant to section 10(a)(1)(B) of the Endangered Species Act of 1973, as amended. Granite Homes is a managing member of the Elsinore 98, Limited Liability Company. The Service is considering issuance of a 2-year permit to the Applicant that would authorize take of the threatened coastal California gnatcatcher (Polioptila californica californica, (gnatcatcher)) incidental to otherwise lawful activities.

Such take would occur during the construction of 99 homes on a previously graded site in the City of Lake Elsinore, in Riverside County, California. This project would permanently eliminate 14 acres of Riversidean sage scrub habitat, resulting in incidental take of three pairs of gnatcatchers. The Applicant proposes to reduce deleterious effects from the proposed construction and to conserve 24 acres of Riversidean sage scrub habitat within an adjacent 80-acre parcel of open space to the north of the project site.

We request comments from the public on the permit application, and an Environmental Assessment, both of which are available for review. The permit application includes the proposed Habitat Conservation Plan (Plan) and an accompanying Implementing Agreement. The Plan describes the proposed action and the measures that the Applicant would undertake to minimize and mitigate take of the gnatcatcher.

DATES: We must receive your written comments on or before December 5, 2000.

ADDRESSES: Please address written comments to Mr. Ken Berg, Field Supervisor, U.S. Fish and Wildlife Service, 2730, Loker Avenue West, Carlsbad, California 92008. You also may send comments by facsimile to (760) 431-5902.

FOR FURTHER INFORMATION CONTACT: Mr. Jim Bartel, Assistant Field Supervisor, at the above address or call (760) 431-9440.

SUPPLEMENTARY INFORMATION:

Availability of Documents

You may obtain copies of these documents for review by contacting the above office. Documents also will be available for public inspection, by appointment, during normal business hours at the above address and at the Lake Elsinore City Library located at 600 West Graham Street, Lake Elsinore, California.

Background

Section 9 of the Endangered Species Act (Act) and Federal regulations prohibit the “take” of fish or wildlife species listed as endangered or threatened. Take of listed fish or wildlife is defined under the Act to include “harass, harm, pursue, hunt, shot, wound, kill, trap, capture, or collect, or to attempt to engage in any such conduct.” The Service may, under limited circumstances, issue permits to authorize incidental take (i.e. take that is incidental to, and not the purpose of, the carrying out of an otherwise lawful activity). Regulations governing incidental take permits for threatened and endangered species are found in 50 CFR 17.32 and 17.22.

The Applicant has proposed development of 99 high-density single family homes on 61 acres. The planning area is located within the city of Lake Elsinore, immediately northeast of Interstate 15 at Railroad Canyon Road. Land uses in the area include a graded industrial lot immediately adjacent to Interstate 15 to the southwest, a residential and light commercial district at Railroad Canyon road to the south and southeast, Summerhill Drive to the east, the Tuscany Homes residential community to the northeast, and extensive undeveloped foothills to the north.

Biologists surveyed the project site for the gnatcatcher and other biological resources between 1998-2000. Based on the survey results, the Service concluded that implementation of the proposed project would result in take of three gnatcatcher pairs through the permanent removal of 14 acres of Riversidean sage scrub. Indirect effects addressed in the Plan and Environmental Assessment include: (1) A reduced dispersal corridor of Riversidean sage scrub in the northeast section of the project site that connects high gnatcatcher population densities to the north with large areas of open space to the south; (2) increased nest predation from introduced domestic cats; (3) brown-headed cowbird (Molothrus ater) parasitism; (4) increased off-road vehicle use of the conserved areas, and (5) increased numbers of predators associated with backyard night-lighting and garbage surrounding constructed homes.

The Applicant proposes to implement the following measures to mitigate and minimize take of the gnatcatcher: (1) Purchase 24 acres of gnatcatcher-occupied Riversidean sage scrub from an adjacent 80-acre conservation parcel to the north that is contiguous with 29 acres previously conserved by the Applicant; (2) enhance the reduced gnatcatcher dispersal corridor in the northeastern section of the project site by removing non-native plants on the back of Lot 187 to allow regeneration of sage scrub and by leaving 2 acres on either side of this lot undeveloped through a conservation easement; (3) place fencing on the rear portion of lots adjacent to conserved areas in order to minimize predation by domestic cats; (4) implement a brown-headed cowbird trapping program if monitoring determines that trapping is necessary; (5) place deed restrictions pertaining to pets, lighting, and trash disposal on lots adjacent to open space; (5) encourage protection of the conserved areas by distributing an educational brochure to home buyers; and (6) implement an adaptive management plan for the conserved areas. The Applicant proposes to endow the long-term management of the 24 acres of Riversidean sage scrub off-site mitigation at a cost of $3,211 per acre. The conserved area would be managed by the Center for Natural Lands Management as part of a 109-acre managed open-space area.

The Environmental Assessment considers the environmental consequences of three alternatives including the Proposed Action. The Proposed Action consists of the issuance of an incidental take permit and implementation of the Plan and its Implementing Agreement, which include measures to minimize and mitigate impacts of the project to the gnatcatcher. Under the “No Action” alternative, the Service would not issue a permit. Under this alternative, the Applicant could retain the property or sell it to somebody else who may choose to develop it. In either case, in the short-term the previously graded Riversidean sage scrub habitat onsite would continue to revegetate naturally with a mixture of native and non-native plants. This sage scrub habitat would continue to be fragmented by intrusions of existing paved streets and there would be no mechanism for prohibiting off-road vehicle use and illegal dumping of trash on the property. Under the “Project Redesign” alternative, 55 of the 99 lots would be developed and the remaining 44 lots would be conserved. These two alternatives to the Proposed Action would result in less habitat value for the gnatcatcher than the off-site mitigation and minimization measures under the Proposed Action.

This notice is provided pursuant to section 10(a) of the Endangered Species Act and the regulations of the National Environmental Policy Act of 1969 (40 CFR 1506.6). All comments that we receive, including names and addresses, will become part of the official administrative record and may be made available to the public. We will evaluate the application, associated documents, and comments submitted thereon to determine whether the application meets the requirements of the National Environmental Policy Act regulations and section 10(a) of the Endangered Species Act. If we determine that those requirements are met, we will issue a permit to the Applicant for the incidental take of the California gnatcatcher. We will make our final permit decision no sooner than 60 days from the date of this notice.

Dated: September 28, 2000.
Elizabeth H. Stevens,
Deputy Manager, California/Nevada Operations Office, Sacramento, California.

[FR Doc. 00-25780 Filed 10-05-00; 8:45 am]

BILLING CODE 4310-55-M